DEPARTMENT OF HEALTH AND HUMAN SERVICES

Office of Inspector General

Program Exclusions; Correction

AGENCY: Office of Inspector General, HHS.

ACTION: Notice of program exclusions; correction.

SUMMARY: The HHS Office of Inspector General Published a document in the Federal Register of September 15, 2003, imposed exclusions. The document contained an incorrect exclusion type.

FOR FURTHER INFORMATION CONTACT: Jacqueline Freeman, (410) 786-5197.

Correction

In the Federal Register of September 15, 2004, in FR Doc. 20710, on page 55641, correct the exclusion date to read:

LABONTE, MARY | 9/20/2004
SCOTTSDALE, AZ

Dated: September 21, 2004.
Katherine B. Petrowski,
Director, Exclusions Staff, Office of Inspector General.

[FR Doc. 04-22046 Filed 9-30-04; 8:45 am]

BILLING CODE 4150-04-P